Proclamation 10458 of September 30, 2022

National Breast Cancer Awareness Month, 2022

By the President of the United States of America

A Proclamation

Far too many Americans face the overwhelming shock of a breast cancer diagnosis. They are flooded with new information, worried about loved ones, and at times unable to afford treatment—all the while staring down life's toughest questions. During National Breast Cancer Awareness Month, we rededicate ourselves to supporting patients and their families, boosting access to care, and raising awareness about the life-saving importance of early screening. We honor all those we have lost to this terrible disease and celebrate the courageous survivors and advocates fighting to beat it, along with the loved ones and medical providers who have their backs every day.

Cancer changes everyone and every family it touches, including ours—and breast cancer is the second most common form of the disease among women in the United States. One in eight women will be diagnosed in their lifetimes, including an expected 290,000 just this year. Fortunately, we are making progress in our fight to end cancer as we know it. The investments our Nation has made in research and screening technologies have been transformative. Groundbreaking immunotherapies and other new treatments have changed the prognosis for so many, and early detection is our most important tool. When found early, the 5-year survival rate is now 99 percent.

There is so much more that the greatest Nation in the world can and must do to get every American access to the care they need. This year, Jill and I reignited the Cancer Moonshot program that we first launched in 2016. We set a game-changing goal of cutting the overall cancer death rate by half in the next 25 years and brought leaders from 20-plus offices and agencies together to form a Cancer Cabinet to get it done. To accelerate research, my Administration also created ARPA-H, the Advanced Research Projects Agency for Health. Modeled on DARPA—the Pentagon agency that gave us the internet and GPS—ARPA-H will drive breakthroughs in preventing, detecting, and treating diseases like cancer. We are working to ensure that clinical trials recruit participants who reflect the full diversity of our Nation and find therapies that better preserve patients' quality of life. A cancer diagnosis is not only frightening but also a doorway into a confusing world of appointments, costs, and care. Patients and their families need information and support, which is why the First Lady has worked to highlight programs that put people at the center of their care.

At the same time, my Administration is working to boost access to life-saving screenings and treatments. That means safeguarding the Affordable Care Act, which requires insurers to cover mammograms and stops them from turning away survivors by listing cancer as a “preexisting condition.” It also means pushing to expand Medicaid so low-income Americans do not have to choose between paying the rent or paying for life-saving care. To that end, we made sure that the American Rescue Plan lowered health insurance costs for millions of families, and the Inflation Reduction Act will now lock in those lower premiums while also capping the amount of money seniors pay for prescription drugs, including cancer drugs, at $2,000 a year.

Finally, we are also joining with advocates to raise awareness about the life-saving importance of breast cancer screenings. Jill has dedicated herself to this work since 1993, when four of her friends were diagnosed with breast cancer in just 1 year. She later founded the Biden Breast Health Initiative, which educated high school girls in Delaware about breast health and encouraged them to spread the word to their own family members. As First Lady, she has traveled the country to encourage everyone to get the cancer screenings they need. Nearly 10 million life-saving screenings were missed during the pandemic. The First Lady and I call on all Americans to make sure they are caught up.

As so many families know too well, cancer can rip lives apart forever. Beating it is one of the biggest things we can do—as individuals and together as a Nation. This work transcends party and politics, and there is nothing we cannot do when we come together as Americans. For all those we have lost and for the ones we can save, let us rededicate ourselves this month to ending cancer and keep building this moonshot into a movement worthy of the precious lives at stake.

More information on breast cancer is available at cancer.gov/types/breast. Information specialists at the National Cancer Institute are also available to help answer cancer-related questions in English and Spanish at 1-800-422-6237. Additionally, the Centers for Disease Control and Prevention's National Breast and Cervical Cancer Early Detection Program provides breast cancer screenings and diagnostic services to those with low incomes who are uninsured or otherwise qualify for the program. Americans can learn more about this program at cdc.gov/cancer/nbccedp/screenings.htm.

NOW, THEREFORE, I, JOSEPH R. BIDEN JR., President of the United States of America, by virtue of the authority vested in me by the Constitution and the laws of the United States, do hereby proclaim October 2022 as National Breast Cancer Awareness Month. I encourage citizens, government agencies, private businesses, nonprofit organizations, and other interested groups to join in activities that will increase awareness of what Americans can do to prevent and control breast cancer, and pay tribute to those who have lost their lives to this disease.

IN WITNESS WHEREOF, I have hereunto set my hand this thirtieth day of September, in the year of our Lord two thousand twenty-two, and of the Independence of the United States of America the two hundred and forty-seventh.

[FR Doc. 2022-21770

Filed 10-4-22; 8:45 am]

Billing code 3395-F3-P